ENVIRONMENTAL PROTECTION AGENCY

[ER-FRL-9000-1]

Environmental Impacts Statements; Notice of Availability

Responsible Agency: Office of Federal Activities, General Information (202) 564-1399 or http://www.epa.gov/compliance/nepa/.

Weekly receipt of Environmental Impact Statements

Filed 11/07/2011 Through 11/11/2011

Pursuant to 40 CFR 1506.9.

Notice

Section 309(a) of the Clean Air Act requires that EPA make public its comments on EISs issued by other Federal agencies. EPA's comment letters on EIS are available at: http://www.epa.gov/compliance/nepa/eisdata.html.

EIS No. 20110383, Final EIS, USFS, OR, Marks Creek Allotment Management Plans, Proposes to Reauthorize Cattle Term Grazing Permits, Construct Range Improvements, and Restore Riparian Vegetation on three Allotments, Lookout Mountain Ranger District, Ochoco National Forest, Crook County, OR, Review Period Ends: 12/19/2011, Contact: Marcy Anderson (541) 416-6463.

EIS No. 20110384, Draft Supplement, FHWA, MN, Trunk Highway 60 between St. James to Windom to Implement Transportation System Improvement, Funding, Cottonwood and Watonwan Counties, MN, Comment Period Ends: 01/04/2012, Contact: Philip Forst (651) 291-6110.

EIS No. 20110385, Final EIS, FHWA, UT, Bangerter 600 West Project, Proposed Improvements to Address Projected Transportation Demand and Safety, Salt Lake County, UT, Review Period Ends: 12/19/2011, Contact: Bryan Dillon (801) 955-3517.

EIS No. 20110386, Draft Supplement, USFS, ID, Upper Lochsa Land Exchange Project, Updated Information on New Alternative F, Proposes to Exchange National Forest System Land for approximately 39,371 Acres of western Pacific Timber Land, Federal Land Exchange, Clearwater, Nez Perce and Idaho Panhandle National Forests, Clearwater, Latah, Idaho, Benewah, Kootenai and Bonner Counties, ID, Comment Period Ends: 01/17/2012, Contact: Teresa Trulock (208) 935-4256.

EIS No. 20110387, Draft EIS, USA, AK, Point Thomson Project, Authorization to Construct Industrial Infrastructure and Produce Liquid Hydrocarbon Resources, Implementation, AK, Comment Period Ends: 01/03/2012, Contact: Harry Batj 1-800-478-2712.

EIS No. 20110388, Final EIS, TVA, AL, Muscle Shoals Reservation Redevelopment, Disposal and Potential Redevelopment Approximately 1,400 Acres of its Muscle Shoals Reservation, Muscle Shoals, Colbert County, AL, Review Period Ends: 12/19/2011, Contact: Stanford E. Davis (865) 632-2915.

EIS No. 20110389, Draft EIS, BR, WA, PROGRAMMATIC—Yakima River Basin Integrated Water Resource Management Plan, To Meet the Water Supply and Ecosystem Restoration Needs, Benton, Kittitas, Klickitat and Yakim Counties, WA, Comment Period Ends: 01/03/2012, Contact: Jim Taylor (208) 378-5081.

EIS No. 20110390, Draft EIS, NPS, HI, Hawaii Volcanoes National Park Project, Protecting and Restoring Native Ecosystems by Managing Non-Native Ungulates, Hawaii County, HI, Comment Period Ends: 01/17/2012, Contact: Rhonda Loh (808) 985-6098.

EIS No. 20110391, Draft EIS, BOP, KS, Leavenworth Federal Correctional Institution and Federal Prison Camp, Construction and Operation, KS, Comment Period Ends: 01/03/2012, Contact: Richard A. Cohn (202) 514-6470.

EIS No. 20110392, Final EIS, USFS, UT, Black Fork Salvage Project, Proposal to Treat Timer Harvest, Prescribe Fire, and Mechanical Thinning, Uinta-Wasatch-Cache National Forest, Summit County, UT, Review Period Ends: 12/19/2011, Contact: Pam Jarnecke (801) 236-3441.

Amended Notices

EIS No. 20110369, Draft EIS, USACE, 00, City of Denison Land Conveyance, Lake Texoma, To Develop Recreational and Economic Needs, Grayson and Cooke Counties, TX and Portion of Bryan, Marshall, Johnston and Love Counties, OK, Comment Period Ends: 12/21/2011, Contact: Stephen L. Nolen. (918) 669-7660 Revision of FR Notice Published 11/04/2011: Correction to EIS Title—City of Denison.

EIS No. 20110380, Second Draft Supplement, NRC, TN, Related to the Operation of Watts Bar Nuclear Plant Units 2, New and Updated Information, Operating License, Rhea County, TN, Comment Period Ends: 12/27/2011, Contact: Justin Poole (301) 415-2048 Revision to FR Notice Published 11/10/2011: Correction to Comment Period from 01/24/2012 to 12/27/2011.

Dated: November 15, 2011.
Cliff Rader,
Acting Director, NEPA Compliance Division, Office of Federal Activities.

[FR Doc. 2011-29879 Filed 11-17-11; 8:45 am]

BILLING CODE 6560-50-P